DEPARTMENT OF THE INTERIOR

Bureau of Indian Affairs

[167A2100DD/AAKC001030/A0A501010.999900 253G]

25 CFR Part 151

RIN 1076-AF28

Title Evidence for Trust Land Acquisitions

AGENCY: Bureau of Indian Affairs, Interior.

ACTION: Interim final rule; delay of effective date.

SUMMARY: The Bureau of Indian Affairs (BIA) published an interim final rule on title evidence for trust land acquisitions and received comments during the public comment period. The BIA anticipates making technical revisions to the rule in response to those comments. This notice delays the effective date of the interim final rule for 30 days, during which time BIA plans to publish a final rule with technical revisions.

DATES: The effective date of the interim final rule published March 1, 2016 (81 FR 10477) is delayed from April 15, 2016 to May 16, 2016.

FOR FURTHER INFORMATION CONTACT: Ms. Elizabeth Appel, Director, Office of Regulatory Affairs and Collaborative Action, Office of the Assistant Secretary—Indian Affairs; telephone (202) 273-4680, elizabeth.appel@bia.gov.

SUPPLEMENTARY INFORMATION: On March 1, 2016, BIA published an interim final rule with an effective date of April 15, 2016. 81 FR 10477. The interim final rule deletes the requirement for fee-to-trust applicants to furnish title evidence that meets the “Standards for the Preparation of Title Evidence in Land Acquisitions by the United States” issued by the U.S. Department of Justice (DOJ), and replaces the requirement with a more targeted requirement for title evidence, because adherence to the DOJ standards is not required for acquisitions of land in trust for individual Indians or Indian tribes. The BIA received 13 comments during the public comment period and anticipates making technical changes in response to those comments. The interim final rule stated that BIA may withdraw, initiate a proposed rulemaking, or revise the rule in response to comments. The BIA has determined that technical revisions to the rule may be appropriate and is therefore delaying the effective date of the rule for 30 days, during which time BIA will publish a final rule with technical revisions.

Dated: April 12, 2016.
Lawrence S. Roberts,
Acting Assistant Secretary—Indian Affairs.

[FR Doc. 2016-08776 Filed 4-14-16; 8:45 am]

BILLING CODE 4337-15-P